DEPARTMENT OF THE INTERIOR

National Park Service

[NPS-NER-NEEN-31151; PPNENEEN00/PPMPSAS1Z.Y00000]

Official Trail Marker for the New England National Scenic Trail

AGENCY: National Park Service, Interior.

ACTION: Notice of designation.

SUMMARY: This notice issues the official trail market insignia of the New England National Scenic Trail. The original graphic image was developed in 2010. It first came into public use in 2011. This publication accomplishes the official designation of the insignia now in use by the National Park Service.

FOR FURTHER INFORMATION CONTACT: Kelly Fellner, Superintendent; New England National Scenic Trail; National Park Service; One Armory Square, Suite 2, Springfield, MA 01105; via email at kelly_fellner@nps.gov; or via phone at (413) 734-8551.

SUPPLEMENTARY INFORMATION: The primary author of this document is Kelly Fellner, Superintendent of the New England National Scenic Trail.

The insignia depicted below is prescribed as the official trail marker logo for the New England National Scenic Trail, administered by the National Park Service, New England National Scenic Trail office, Springfield, MA. Authorization for use of this trail marker is controlled by the administrator of the trail.

In making this prescription, notice is hereby given that whoever manufactures, sells, or possesses this insignia, or any colorable imitation thereof, or photographs or prints or in any other manner makes or executes any engraving, photograph or print, or impression in the likeness of this insignia, or any colorable imitation thereof, without written authorization from the United States Department of the Interior is subject to the penalty provisions of section 701 of Title 18 of the United States Code.

Authority: National Trails System Act, 16 U.S.C. 1246(c); and Protection of Official Badges, Insignia, etc., 18 U.S.C. 701.

Kelly Fellner,
Superintendent, New England National Scenic Trail.

[FR Doc. 2021-13677 Filed 6-25-21; 8:45 am]

BILLING CODE 4312-52-P